DEPARTMENT OF TRANSPORTATION

Federal Aviation Administration

14 CFR Part 39

[Docket No. FAA-2014-0620; Directorate Identifier 2013-NM-238-AD]

RIN 2120-AA64

Airworthiness Directives; Airbus Airplanes

AGENCY: Federal Aviation Administration (FAA), DOT.

ACTION: Notice of proposed rulemaking (NPRM).

SUMMARY: We propose to supersede Airworthiness Directive (AD) 2007-22-10, for all Airbus Model A330-200, A330-300, A340-200, A340-300, A340-500, and A340-600 series airplanes. AD 2007-22-10 currently requires repetitive inspections of the left-hand and right-hand wing main landing gear (MLG) rib 6 aft bearing lugs (forward and aft) to detect any cracking, and replacement if necessary. Since we issued AD 2007-22-10, we have received reports of additional cracking of the MLG rib 6 aft bearing forward lug. This proposed AD would expand the applicability and reduce certain compliance times. We are proposing this AD to detect and correct cracking of the MLG rib 6 aft bearing lugs, which could result in collapse of the MLG upon landing.

DATES: We must receive comments on this proposed AD by October 20, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0620; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Comments Invited

We invite you to send any written relevant data, views, or arguments about this proposed AD. Send your comments to an address listed under the ADDRESSES section. Include “Docket No. FAA-2014-0620; Directorate Identifier 2013-NM-238-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On October 24, 2007, we issued AD 2007-22-10, Amendment 39-15246 (72 FR 61796, November 1, 2007. (A correction of that AD was published in the Federal Register on November 16, 2007 (72 FR 64532).) AD 2007-22-10 superseded AD 2007-03-04, Amendment 39-14915 (72 FR 4416, January 31, 2007). AD 2007-22-10 requires actions intended to address an unsafe condition on all Airbus Model A330-200, A330-300, A340-200, A340-300, A340-500, and A340-600 series airplanes.

Since we issued AD 2007-22-10, Amendment 39-15246 (72 FR 61796, November 1, 2007; corrected November 16, 2007 (72 FR 64532)), we have received reports of additional cracking of the MLG rib 6 aft bearing forward lug on several other Model A330 and A340 airplanes. Based on the safety analysis performed by the manufacturer, this proposed AD would expand the applicability and reduce certain compliance times.

The European Aviation Safety Agency (EASA), which is the Technical Agent for the Member States of the European Community, has issued EASA Airworthiness Directive 2013-0271, dated November 14, 2013 (referred to after this as the Mandatory Continuing Airworthiness Information, or “the MCAI”), to correct an unsafe condition for the specified products. The MCAI states:

During Main Landing Gear (MLG) lubrication, a crack was visually found in the MLG rib 6 aft bearing forward lug on one A330 in-service aeroplane. The crack had extended through the entire thickness of the forward lug at approximately the 4 o'clock position (when looking forward). It has been determined that similar type of crack can develop on other aeroplane types that are listed in the Applicability paragraph.

This condition, if not detected and corrected, could affect the structural integrity of the MLG attachment.

To address this situation, Airbus issued inspection Service Bulletins (SB) A330-57-3096, A340-57-4104 and A340-57-5009 to instruct repetitive inspection [for cracking] of the gear rib lugs.

Prompted by these findings, EASA issued Emergency AD 2006-0364-E [http://ad.easa.europa.eu/ad/2006-0364-E] to require repetitive detailed visual inspections of the Left Hand (LH) and Right Hand (RH) wing MLG rib 6 aft bearing lugs [and replacement if necessary]. Later EASA issued AD 2007-0247R1-E [which corresponds to FAA AD 2007-22-10, Amendment 39-15246 (72 FR 61796, November 1, 2007)], which superseded EAD 2006-0364-E, to:

—Expand the applicability to all A330 and A340 aeroplanes, because the interference fit bushes cannot be considered as a terminating action, owing to unknown root cause; and

—Add a second parameter quoted in Flight Hours (FH) to the inspection interval in order to reflect the aeroplane utilization in service.

EASA AD 2007-0247R1-E was republished to correct a typographical error.

Since the first crack finding and issuance of the inspection SBs and related ADs, six further cracks have been reported.

For the reasons described above, this [EASA] AD, which supersedes EASA EAD 2007-0247 R1-E and retains its requirements, is issued to expand the applicability to the newly certified models A330-223F and A330-243F and to reduce the threshold further to the risk assessment of recent in-service experience.

You may examine the MCAI in the AD docket on the Internet at http://www.regulations.gov by searching for and locating it in Docket No. FAA-2014-0620.

Relevant Service Information

Airbus has issued the following service bulletins.

• Airbus Service Bulletin A330-57-3096, Revision 05, dated October 17, 2013.

• Airbus Service Bulletin A340-57-4104, Revision 04, dated October 17, 2013.

• Airbus Service Bulletin A340-57-5009, Revision 03, dated October 17, 2013.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

“Contacting the Manufacturer” Paragraph in This Proposed AD

Since late 2006, we have included a standard paragraph titled “Airworthy Product” in all MCAI ADs in which the FAA develops an AD based on a foreign authority's AD.

The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In an NPRM having Directorate Identifier 2012-NM-101-AD (78 FR 78285, December 26, 2013), we proposed to prevent the use of repairs that were not specifically developed to correct the unsafe condition, by requiring that the repair approval provided by the State of Design Authority or its delegated agent specifically refer to the FAA AD. This change was intended to clarify the method of compliance and to provide operators with better visibility of repairs that are specifically developed and approved to correct the unsafe condition. In addition, we proposed to change the phrase “its delegated agent” to include a design approval holder (DAH) with State of Design Authority design organization approval (DOA), as applicable, to refer to a DAH authorized to approve required repairs for the proposed AD.

One commenter to the NPRM having Directorate Identifier 2012-NM-101-AD (78 FR 78285, December 26, 2013) stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this proposed AD to obtain corrective actions from a manufacturer, the actions must be accomplished using a method approved by the FAA, the European Aviation Safety Agency (EASA), or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this proposed AD.

Costs of Compliance

We estimate that this proposed AD affects 81 airplanes of U.S. registry.

We estimate that it would take about 2 work-hours per product to comply with the basic requirements of this proposed AD. The average labor rate is $85 per work-hour. Required parts would cost about $0 per product. Based on these figures, we estimate the cost of this proposed AD on U.S. operators to be $13,770, or $170 per product.

We have no definitive data that would enable us to provide a cost estimate for the on-condition actions specified in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Airworthiness Directive (AD) 2007-22-10, Amendment 39-15246 (72 FR 61796, November 1, 2007; corrected November 16, 2007 (72 FR 64532)), and adding the following new AD:

Airbus: Docket No. FAA-2014-0620; Directorate Identifier 2013-NM-238-AD.

(a) Comments Due Date

We must receive comments by October 20, 2014.

(b) Affected ADs

This AD replaces AD 2007-22-10, Amendment 39-15246 (72 FR 61796, November 1, 2007; corrected November 16, 2007 (72 FR 64532)).

(c) Applicability

This AD applies to Airbus Model A330-201, -202, -203, -223, -223F, -243, -243F -301, -302, -303, -321, -322, -323, -341, -342, and -343 airplanes; and Model A340-211, -212, -213 -311, -312, -313, -541, and -642 airplanes; certificated in any category; all manufacturer serial numbers.

(d) Subject

Air Transport Association (ATA) of America Code 57, Wings.

(e) Reason

This AD was prompted by reports of cracking of the main landing gear (MLG) rib 6 aft bearing forward lug. We are issuing this AD to detect and correct cracking of the MLG rib 6 aft bearing lugs, which could result in collapse of the MLG upon landing.

(f) Compliance

Comply with this AD within the compliance times specified, unless already done.

(g) Inspections

Before the accumulation of 42 months since the airplane's first flight or since the last MLG support rib replacement, as applicable; or within 4 months after the effective date of this AD; whichever occurs later: Do a detailed inspection for cracking of the left-hand and right-hand wing MLG rib 6 aft bearing lugs (forward and aft), in accordance with the Accomplishment Instructions of Airbus Service Bulletin A330-57-3096, Revision 05, dated October 17, 2013 (for Model A330-201, -202, -203, -223, -223F, -243, -243F, -301, -302, -303, -321, -322, -323, -341, -342, and -343 airplanes); A340-57-4104, Revision 04, dated October 17, 2013 (for Model A340-211, -212, -213, -311, -312, -313 airplanes); or A340-57-5009, Revision 03, dated October 17, 2013 (for Model A340-541 and -642 airplanes). Repeat the inspections at the times specified in paragraphs (g)(1) through (g)(7) of this AD, as applicable.

(1) For Model A330-201, -202, -203, -223, and -243 airplanes, repeat the inspections at intervals not to exceed 300 flight cycles or 1,500 flight hours, whichever occurs first.

(2) For Model A330-223F and -243F airplanes, repeat the inspections at intervals not to exceed 300 flight cycles or 900 flight hours, whichever occurs first.

(3) For Model A330-301, -302, -303, -321, -322, -323, -341, -342, and -343 airplanes, repeat the inspections at intervals not to exceed 300 flight cycles or 900 flight hours, whichever occurs first.

(4) For Model A340-211, -212, and -213 airplanes, repeat the inspections at intervals not to exceed 200 flight cycles or 800 flight hours, whichever occurs first.

(5) For Model A340-311 and -312 airplanes; and Model A340-313 airplanes (except weight variant (WV) 27), repeat the inspections at intervals not to exceed 200 flight cycles or 800 flight hours, whichever occurs first.

(6) For Model A340-313 (only WV27) airplanes, repeat the inspections at intervals not to exceed 200 flight cycles or 400 flight hours, whichever occurs first.

(7) For Model A340-541 and -642 airplanes, repeat the inspections at intervals not to exceed 100 flight cycles or 500 flight hours, whichever occurs first.

(h) Corrective Action

If any cracking is found during any inspection required by paragraph (g) of this AD, before further flight, replace the cracked MLG support rib using a method approved by the Manager, International Branch, ANM-116, Transport Airplane Directorate, FAA; or the European Aviation Safety Agency (EASA); or Airbus's EASA Design Organization Approval (DOA). If approved by the DOA, the approval must include the DOA-authorized signature. Replacement of a MLG support rib does not terminate the repetitive inspections required by paragraph (g) of this AD.

(i) Credit for Previous Actions

This paragraph provides credit for the corresponding actions required by paragraph (g) of this AD, if those actions were performed before the effective date of this AD using the applicable service bulletin identified in paragraphs (i)(1) through (i)(12) of this AD.

(1) Airbus Service Bulletin A330-57A3096, dated December 5, 2006, which was incorporated by reference in AD 2007-03-04, Amendment 39-14915 (74 FR 4416, January 31, 2007), on February 15, 2007.

(2) Airbus Service Bulletin A330-57A3096, Revision 01, dated April 18, 2007, which is not incorporated by reference by this AD.

(3) Airbus Service Bulletin A330-57-3096, Revision 02, dated August 13, 2007, which was incorporated by reference in AD 2007-22-10, Amendment 39-15246 (72 FR 61796, November 1, 2007; corrected November 16, 2007 (72 FR 64532)), on November 16, 2007.

(4) Airbus Service Bulletin A330-57-3096, Revision 03, dated October 24, 2012, which is not incorporated by reference by this AD.

(5) Airbus Service Bulletin A330-57-3096, Revision 04, dated February 6, 2013, which is not incorporated by reference by this AD.

(6) Airbus Service Bulletin A340-57A4104, dated December 5, 2006, which was incorporated by reference in AD 2007-03-04, Amendment 39-14915 (72 FR 4416, January 31, 2007), on February 15, 2007.

(7) Airbus Service Bulletin A340-57-4104, Revision 01, dated August 13, 2007, which is not incorporated by reference by this AD.

(8) Airbus Service Bulletin A340-57-4104, Revision 02, dated September 5, 2007, which was incorporated by reference in AD 2007-22-10, Amendment 39-15246 (72 FR 61796, November 1, 2007; corrected November 16, 2007 (72 FR 64532)), on November 16, 2007.

(9) Airbus Service Bulletin A340-57-4104, Revision 03, dated October 24, 2012, which is not incorporated by reference by this AD.

(10) Airbus Service Bulletin A340-57A5009, dated December 5, 2006, which was incorporated by reference in AD 2007-03-04, Amendment 39-14915 (72 FR 4416, January 31, 2007), on February 15, 2007.

(11) Airbus Service Bulletin A340-57-5009, Revision 01, dated August 13, 2007, which was incorporated by reference in AD 2007-22-10, Amendment 39-15246 (72 FR 61796, November 1, 2007; corrected November 16, 2007 (72 FR 64532)), on November 16, 2007.

(12) Airbus Service Bulletin A340-57-5009, Revision 02, dated October 24, 2012, which is not incorporated by reference by this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(k) Related Information

(1) Refer to Mandatory Continuing Airworthiness Information (MCAI) EASA Airworthiness Directive 2013-0271, dated November 14, 2013, for related information. This MCAI may be found in the AD docket on the Internet at http://www.regulations.gov by searching for and locating Docket No. FAA-2014-0620.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on August 25, 2014.
Michael Kaszycki,
Acting Manager, Transport Airplane Directorate, Aircraft Certification Service.

[FR Doc. 2014-21055 Filed 9-3-14; 8:45 am]

BILLING CODE 4910-13-P